DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 122nd Scientific and Statistical Committee (SSC) meeting and its 165th Council meeting to take actions on fishery management issues in the Western Pacific Region. The Council will also convene meetings of the Pelagic and International Standing Committee, Program Planning and Research Standing Committee, and Executive and Budget Standing Committee.

DATES: The 122nd SSC meeting will be held between 8:30 a.m. and 5 p.m. on March 8-10, 2016. The Council's Pelagic and International Standing Committee will be held between 9 a.m. and 12 noon, Program Planning and Research Standing Committee between 1 p.m. and 3 p.m., and Executive and Budget Standing Committee between 3 p.m. and 5 p.m. on March 14, 2016. The 165th Council meeting will be held between 8:30 a.m. and 5 p.m. on March 15-17, 2016. In addition, the Council will host a Fishers Forum on March 15, 2016, between 6 p.m. and 9 p.m. For specific times and agendas, see SUPPLEMENTARY INFORMATION.

ADDRESSES: The 122nd SSC, the Pelagic and International Standing Committee, Program Planning and Research Standing Committee, and Executive and Budget Standing Committee meetings will be held at the Council office, 1164 Bishop Street, Suite 1400, Honolulu, HI 96813, phone: (808) 522-8220. The 165th Council meeting will be held at Laniakea YWCA, Fuller Hall, 1040 Richards St., Honolulu, HI 96813, phone: (808) 538-7061. The Fishers Forum will be held at the Ala Moana Hotel, 410 Atkinson Dr., Honolulu, HI 96814; phone: (808) 956-4262.

FOR FURTHER INFORMATION CONTACT: Kitty M. Simonds, Executive Director; phone: (808) 522-8220.

SUPPLEMENTARY INFORMATION: In addition to the agenda items listed here, the SSC and Council will hear recommendations from Council advisory groups. Public comment periods will be provided throughout the agendas. The order in which agenda items are addressed may change. The meetings will run as late as necessary to complete scheduled business. Background documents will be available from, and written comments should be sent to, Mr. Edwin Ebisui Jr., Chair, Western Pacific Fishery Management Council, 1164 Bishop Street, Suite 1400, Honolulu, HI 96813, phone: (808) 522-8220 or fax: (808) 522-8226.

Agenda for 122nd SSC Meeting

8:30 a.m.-5 p.m., Tuesday, March 8, 2016

1. Introductions

2. Approval of Draft Agenda and Assignment of Rapporteurs

3. Status of the 121st SSC Meeting Recommendations

4. Report from the Pacific Islands Fisheries Science Center Director

5. Program Planning

A. Coral Reef Program Project Updates

1. American Samoa Reef Fish Connectivity Project

B. Final Center for Independent Experts (CIE) Review Reports and Next Steps

1. Integrated Data Poor Stock Assessment Model

2. Kona Crab Stock Assessment

C. West Hawaii Integrated Ecosystem Assessment Status and Trends

D. Marianas Trench Marine National Monument Mapping Application

E. The Science of Pelagic Marine Protected Areas

F. SSC Work Session on Management Strategy Evaluation Priorities and CIE Review Comments on the Estimation of Bycatch in the Hawaii Deep-Set Longline Fishery

G. Public Comment

H. SSC Discussion and Recommendations

8:30 a.m.-5 p.m., Wednesday, March 9, 2016

6. Pelagic Fisheries

A. Hawaii and American Samoa Longline Fisheries Reports

B. Eastern Pacific Ocean (EPO) Bigeye Tuna (BET) Quota

C. Overfishing of EPO Swordfish (ACTION ITEM)

D. Feasibility of Yellowfin Tuna Stock Assessment Model for the Main Hawaiian Islands

E. Measuring Productivity in a Shared Stock Fishery: A Case Study of the Hawaii Longline Fishery

F. International Fisheries

1. Outcomes from 12th Session of the Western and Central Pacific Fisheries Commission (WCPFC 12)

G. Public Comment

H. SSC Discussion and Recommendations

7. Protected Species

A. Analysis on the 2013-14 Leatherback Sea Turtle Interactions in the Hawaii Deep-Set Longline Fishery Compared to Previous Years

B. Report of the Joint and Pacific Scientific Review Group Meeting

C. Rare Events Bycatch Workshop Plan

D. Updates on Endangered Species Act (ESA) Consultations

1. Re-consultation on the Hawaii Deep-Set Longline Fishery

2. Monk Seal Critical Habitat

E. Updates on ESA and Marine Mammal Protection Act (MMPA) Actions

F. Public Comment

G. SSC Discussion and Recommendations

8:30 a.m.-5 p.m., Thursday, March 10, 2016

8. Other Business

A. SSC Operational Guidelines and Three-Year Research Plan

B. 2015 Program Review and 2016 Program

C. 123rd SSC Meeting

9. Summary of SSC Recommendations to the Council

Agenda for Pelagic and International Standing Committee

9 a.m.-12 noon, Monday, March 14, 2016

A. Hawaii and American Samoa Longline Fisheries Reports

B. EPO BET Quota

C. Overfishing of EPO Swordfish (ACTION ITEM)

D. International Work Program

E. International Fisheries Meetings

1. WCPFC 12 Meeting Report

F. Advisory Group Report and Recommendations

1. Advisory Panel

2. SSC

G. Public Comment

H. Standing Committee Recommendations

Agenda for Program Planning and Research Standing Committee

1 p.m.-3 p.m., Monday, March 14, 2016

A. CIE Review Reports

1. Integrated data poor stock assessment model

2. Kona Crab Stock Assessment

B. SSC Work Session Reports

1. Management Strategy Evaluation Priorities

2. CIE Review Comments on the Estimation of Bycatch in the Hawaii Deep-Set Longline Fishery

C. Fishery Ecosystem Plan Modification (ACTION ITEM)

D. National Bycatch Issues

1. National Bycatch Strategy

2. Standardized Bycatch Reporting Methodology

E. Updates on Marine National Monuments

F. Report on the Council's 2015 Program Review

G. National Council Communications Group

H. Regional, National and International Outreach & Education

I. NOAA Report on FAO Eco-Labeling Guidelines

J. Advisory Group Report and Recommendations

1. Advisory Panel

2. Scientific & Statistical Committee

K. Public Comment

L. Standing Committee Discussion & Recommendations

Agenda for Executive and Budget Standing Committee

3 p.m.-5 p.m., Monday, March 14, 2016

A. Financial Reports

B. Administrative Reports

C. Council Family Changes

D. Report on Final Operating Guidelines

E. Update to Regional Operating Agreement

F. Statement of Organization Practices and Procedures

G. SSC Operational Guidelines and Three-Year Research Plan

H. Meetings and Workshops

I. Other Business

J. Public Comment

K. Standing Committee Discussion and Recommendations

Agenda for 165th Council Meeting

8:30 a.m.-5 p.m., Tuesday, March 15, 2016

1. Welcome and Introductions

2. Approval of the 165th Agenda

3. Approval of the 164rd Meeting Minutes

4. Executive Director's Report

5. Agency Reports

1. National Marine Fisheries Service

2. Pacific Islands Regional Office

a. Status of Pending Management Actions

3. Pacific Islands Fisheries Science Center

B. NOAA Office of General Counsel, Pacific Islands Section

C. U.S. Department of State

D. U.S. Fish and Wildlife Service

E. Enforcement

1. U.S. Coast Guard

2. NOAA Office of Law Enforcement

3. NOAA Office of General Counsel, Enforcement Section

F. Public Comment

G. Council Discussion and Action

6. Hawaii Archipelago and Pacific Remote Island Areas (PRIA)

A. Moku Pepa

B. Legislative Report

C. Enforcement Issues

D. West Hawaii Integrated Ecosystem Assessment Status and Trends

E. Report on State of Hawaii Fish Aggregation Devices

F. Status of the Main Hawaiian Islands Deep-7 Bottomfish Workshops

G. Education and Outreach Initiatives

H. Advisory Group Report and Recommendations

1. Advisory Panel

2. SSC

I. Public Comment

J. Council Discussion and Action

7. American Samoa Archipelago

A. Motu Lipoti

B. Fono Report

C. Enforcement Issues

D. Community Activities and Issues

1. Report on the Governor's Fisheries Task Force Initiatives

2. Fisheries Development

3. Fisheries Disaster Relief

E. Education and Outreach Initiatives

F. Advisory Group Report and Recommendations

1. Advisory Panel

2. SSC

G. Public Comment

H. Council Discussion and Action

8. Protected Species

A. Update on Leatherback Turtle Interactions in the Hawaii Deep-Set Longline Fishery

B. Report of the Joint and Pacific Scientific Review Group Meeting

C. Report on the Rare Events Bycatch Workshop Plan

D. Updates on ESA Consultations

E. Updates on ESA and MMPA Actions

F. Advisory Group Report and Recommendations

1. Advisory Panel

2. SSC

G. Public Comment

H. Council Discussion and Action

6 p.m.-9 p.m., Tuesday, March 15, 2016

Fishers Forum—Future of Main Hawaiian Island Bottomfish Research and Management

8:30 a.m.-5 p.m., Wednesday, March 16, 2016

9. Pelagic and International Fisheries

A. Hawaii and American Samoa Longline Fisheries Reports

B. EPO BET Quota

C. Overfishing of EPO Swordfish (ACTION ITEM)

D. Report on Hawaii Longline Vessel and Observer Electronic Reporting

E. International Work Program

F. International Fisheries Meetings

1. WCPFC 12 Meeting Report

G. Advisory Group Report and Recommendations

1. Advisory Panel

2. SSC

H. Standing Committee Recommendations

I. Public Comment

J. Council Discussion and Action

10. Program Planning and Research

A. CIE Review Reports

1. Integrated Data Poor Stock Assessment Model

2. Kona Crab Stock Assessment

B. SSC Work Session Reports

1. Management Strategy Evaluation Priorities

2. CIE Review Comments on the Estimation of Bycatch in the Hawaii Deep-Set Longline Fishery

C. Fishery Ecosystem Plan Modification (ACTION ITEM)

D. National Bycatch Issues

1. National Bycatch Strategy

2. Standardized Bycatch Reporting Methodology

E. Updates on Marine National Monuments

F. Report on the Council's 2015 Program Review

G. National Fishery Management Councils' Communications Group

H. Regional, National and International Outreach and Education

I. NOAA Report on FAO Eco-Labeling Guidelines

J. Advisory Group Report and Recommendations

1. Advisory Panel

2. SSC

K. Standing Committee Recommendations

L. Public Comment

M. Council Discussion and Action

4 p.m.-5 p.m., Wednesday, March 16, 2016

11. Public Comment on Non-agenda Items

8:30 a.m.-5 p.m., Thursday March 17, 2016

12. Mariana Archipelago

A. Guam

1. Isla Informe

2. Legislative Report

3. Enforcement Issues

4. Community Activities and Issues

a. Report on the Yigo Community-Based Management Plan (CBMP)

b. Update on Malesso CBMP Plan

c. Participatory Mapping of Coral Reef Fishing Grounds

d. Festival of the Pacific Update

5. Education and Outreach Initiatives

B. Commonwealth of Northern Mariana Islands

1. Arongol Falú

2. Legislative Report

3. Enforcement Issues

4. Community Activities and Issues

a. Report on Northern Islands CBMP

b. Report on Fishery Development Projects

5. Education and Outreach Initiatives

C. Advisory Group Report and Recommendations

1. Advisory Panel

2. SSC

D. Public Comment

E. Council Discussion and Action

13. Administrative Matters

A. Financial Reports

B. Administrative Reports

C. Council Family Changes

D. Report on Final Operating Guidelines

E. Update to Regional Operating Agreement

F. Statement of Organization Practices and Procedures

G. SSC Operational Guidelines and Three-Year Research Plan

H. Meetings and Workshops

I. Other Business

J. Standing Committee Recommendations

K. Public Comment

L. Council Discussion and Action

14. Other Business

Non-emergency issues not contained in this agenda may come before the Council for discussion and formal Council action during its 163rd meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least days prior to the meeting date.

Authority: 16 U.S.C. 1801 et seq.

Dated: February 16, 2016.
Tracey L. Thompson,
Acting Deputy Director, Office of Sustainable Fisheries, National Marine Fisheries Service.

[FR Doc. 2016-03471 Filed 2-18-16; 8:45 am]

BILLING CODE 3510-22-P